ENVIRONMENTAL PROTECTION AGENCY

40 CFR Parts 63

[EPA-R06-OAR-2005-LA-0004; FRL-8159-1]

National Emission Standards for Hazardous Air Pollutants; Delegation of Authority to Louisiana

AGENCY: Environmental Protection Agency (EPA).

ACTION: Direct final rule; delegation of authority.

SUMMARY: The Louisiana Department of Environmental Quality (LDEQ) has submitted updated regulations for receiving delegation of EPA authority for implementation and enforcement of National Emission Standards for Hazardous Air Pollutants (NESHAPs) for certain sources (both part 70 and non-part 70 sources). These regulations apply to certain NESHAPs promulgated by EPA, as amended through July 1, 2004. The delegation of authority under this action does not apply to sources located in Indian Country. EPA is providing notice that it is taking direct final action to approve the delegation of certain NESHAPs to LDEQ.

DATES: This rule is effective on June 16, 2006, without further notice, unless EPA receives adverse comment by May 17, 2006. If EPA receives such comment, EPA will publish a timely withdrawal in the Federal Register informing the public that this rule will not take effect.

ADDRESSES: Submit your comments, identified by Docket ID No. EPA-R06-OAR-2005-LA-0004, by one of the following methods:

• Federal eRulemaking Portal: http://www.regulations.gov. Follow the on-line instructions for submitting comments.

• U.S. EPA Region 6 “Contact Us” Web site: http://epa.gov/region6/r6coment.htm Please click on “6PD” (Multimedia) and select “Air” before submitting comments.

• E-mail: Jeff Robinson at robinson.jeffrey@epa.gov. Please also cc the person listed in the FOR FURTHER INFORMATION CONTACT section below.

• Fax: Mr. Jeff Robinson, Air Permits Section (6PD-R), at fax number 214-665-7263.

• Mail: Mr. Jeff Robinson, Air Permits Section (6PD-R), Environmental Protection Agency, 1445 Ross Avenue, Suite 1200, Dallas, Texas 75202-2733.

• Hand or Courier Delivery: Mr. Jeff Robinson, Air Permits Section (6PD-R), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2005-LA-0004. EPA's policy is that all comments received will be included in the public docket without change and may be made available online at http://www.regulations.gov, including any personal information provided, unless the comment includes information claimed to be Confidential Business Information (CBI) or other information the disclosure of which is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or at the Air Permitting Section (6PD-R), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a 15 cents per page fee for making photocopies of documents. On the day of the visit, please check in at the EPA Region 6 reception area at 1445 Ross Avenue, Suite 700, Dallas, Texas.

The State submittal is also available for public inspection at the State Air Agency listed below during official business hours by appointment:

Louisiana Department of Environmental Quality, Office of Environmental Assessment, 602 N. Fifth Street, Baton Rouge, Louisiana 70802.

FOR FURTHER INFORMATION CONTACT: Mr. Jeff Robinson, U.S. EPA, Region 6, Multimedia Planning and Permitting Division (6PD), 1445 Ross Avenue, Dallas, TX 75202-2733, telephone (214) 665-6435; fax number 214-665-7263; or electronic mail at robinson.jeffrey@epa.gov.

SUPPLEMENTARY INFORMATION: Throughout this document wherever “we,” “us,” or “our” is used, we mean the EPA.

supplementary information:

Table of Contents

I. General Information

II. What Does This Action Do?

III. What Is the Authority for Delegation?

IV. What Criteria Must Louisiana's Program Meet To Be Approved?

V. How Did LDEQ Meet the Subpart E Approval Criteria?

VI. What Is Being Delegated?

VII. What Is Not Being Delegated?

VIII. How Will Applicability Determinations Under Section 112 Be Made?

IX. What Authority Does EPA Have?

X. What Information Must LDEQ Provide To EPA?

XI. What Is EPA's Oversight of This Delegation to LDEQ?

XII. Should Sources Submit Notices to EPA or LDEQ?

XIII. How Will Unchanged Authorities Be Delegated to LDEQ in the Future?

XIV. Final Action

XV. Statutory and Executive Order Reviews

I. General Information

A. Tips for Preparing Your Comments

When submitting comments, remember to:

1. Identify the rulemaking by docket number and other identifying information (subject heading, Federal Register date and page number).

2. Follow directions—The agency may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

B. Submitting Confidential Business Information (CBI)

Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

II. What Does This Action Do?

EPA is taking direct final action to approve the delegation of certain NESHAPs to LDEQ. With this delegation, LDEQ has the primary responsibility to implement and enforce the delegated standards. See Section VI, below, for a complete discussion of which standards are being delegated and which are not being delegated.

III. What Is the Authority for Delegation?

Section 112(l) of the CAA and 40 CFR part 63, Subpart E, authorizes EPA to delegate authority to any state or local agency which submits adequate regulatory procedures for implementation and enforcement of emission standards for hazardous air pollutants. The hazardous air pollutant standards are codified at 40 CFR part 63.

IV. What Criteria Must Louisiana's Program Meet To Be Approved?

EPA previously approved LDEQ's program for the delegation of certain NESHAP standards in 40 CFR part 63 on March 26, 2004 (69 FR 15687), and updated the delegation on December 15, 2004 (69 FR 74979). Section 112(l) of the CAA enables EPA to approve State air toxics programs or rules to operate in place of the Federal air toxics program or rules. 40 CFR part 63, subpart E (Subpart E) governs EPA's approval of State rules or programs under section 112(l).

EPA will approve an air toxics program if we find that:

(1) The State program is “no less stringent” than the corresponding Federal program or rule;

(2) the State has adequate authority and resources to implement the program;

(3) the schedule for implementation and compliance is sufficiently expeditious; and

(4) the program otherwise complies with Federal guidance.

In order to obtain approval of its program to implement and enforce Federal section 112 rules as promulgated without changes (straight delegation), only the criteria of 40 CFR 63.91(d) must be met. 40 CFR 63.91(d)(3) provides that interim or final Title V program approval will satisfy the criteria of 40 CFR 63.91(d) for part 70 sources.

V. How Did LDEQ Meet the Subpart E Approval Criteria?

As part of its Title V submission, LDEQ stated that it intended to use the mechanism of incorporation by reference to adopt unchanged Federal section 112 into its regulations. This applied to both existing and future standards as they applied to part 70 sources. 59 FR 43797 (August 25, 1994) and 60 FR 17750 (April 7, 1995). On September 12, 1995, EPA promulgated final full approval of the State's operating permits program effective October 12, 1995. 60 FR 42296. Under 40 CFR 63.91(d)(2), once a state has satisfied up-front approval criteria, it needs only to reference the previous demonstration and reaffirm that it still meets the criteria for any subsequent submittals. LDEQ has affirmed that it still meets the up-front approval criteria.

VI. What Is Being Delegated?

EPA received LDEQ's request to update the NESHAP delegation on August 12, 2005. LDEQ requested the EPA to update the delegation of authority for the following:

A. NESHAPs (40 CFR part 63 standards) through July 1, 2004

LDEQ's request was for delegation of certain NESHAPS for all sources (both part 70 and non-part 70 sources). The request includes revisions of the NESHAP standards adopted unchanged into Louisiana Administrative Code (LAC) Title 33:III, Chapter 51, Subchapter C, § 5122—Incorporation by Reference of 40 CFR part 63 as it Applies to Major Sources; and Chapter 53, Subchapter B, § 5311—Incorporation by Reference of 40 CFR part 63 as it Applies to Area Sources. LDEQ also requested that EPA remove the delegation for Subpart D—Early Reductions. LDEQ has requested delegation of the part 63 NESHAPs set forth in Table 1 below.

Table 1
[40 CFR Part 63 NESHAP for source categories]
Subpart | Source category
EEEE | Organic Liquids Distribution (Non-Gasoline).
FFFF | Miscellaneous Organic Chemical Manufacturing (MON).
IIII | Surface Coating of Auto and Light Duty Trucks.
KKKK | Surface Coating of Metal Cans.
MMMM | Surface Coating of Miscellaneous Metal Parts and Products.
PPPP | Surface Coating of Plastic Parts and Products.
YYYY | Stationary Combustion Turbines.
ZZZZ | Stationary Reciprocating Internal Combustion Engines (RICE).
AAAAA | Lime Manufacturing Plants.
EEEEE | Iron and Steel Foundries.
GGGGG | Site Remediation.
HHHHH | Miscellaneous Coating Manufacturing.
IIIII | Mercury Cell Chlor-Alkali Plants.
RRRRR | Taconite Iron Ore Processing.
TTTTT | Primary Magnesium Refining.

VII. What Is Not Being Delegated?

EPA cannot delegate to a State any of the Category II Subpart A authorities set forth in 40 CFR 63.91(g)(2). These include the following provisions: Section 63.6(g), Approval of Alternative Non-Opacity Standards; § 63.6(h)(9), Approval of Alternative Opacity Standards; § 63.7(e)(2)(ii) and (f), Approval of Major Alternatives to Test Methods; § 63.8(f), Approval of Major Alternatives to Monitoring; and § 63.10(f), Approval of Major Alternatives to Recordkeeping and Reporting. In addition, some MACT standards have certain provisions that cannot be delegated to the States [e.g. 40 CFR 63.106(b)]. Therefore, any MACT standard that EPA is delegating to LDEQ that provides that certain authorities cannot be delegated are retained by EPA and not delegated. Furthermore, no authorities are delegated that require rulemaking in the Federal Register to implement, or where Federal overview is the only way to ensure national consistency in the application of the standards or requirements of CAA Section 112. EPA will change the delegation status of part 63—Subpart J standard for Polyvinyl Chloride and Copolymers Production in this delegation action. This standard was vacated by Mossville Environmental Action Now v. EPA, 370 F. 3d 1232 (D.C. Cir. 2004), and EPA's petition for rehearing was denied by the Court of Appeals for the D.C. Circuit on April 15, 2005. This standard was previously delegated to LDEQ. EPA is currently preparing a new Subpart J standard. Finally, Section 112(r), the accidental release program authority, is not being delegated by this approval.

All of the inquiries and requests concerning implementation and enforcement of the excluded standards in the State of Louisiana should be directed to the EPA Region 6 Office.

In addition, this delegation to LDEQ to implement and enforce certain NESHAPs does not extend to sources or activities located in Indian country, as defined in 18 U.S.C. 1151. Under this definition, EPA treats as reservations, trust lands validly set aside for the use of a Tribe even if the trust lands have not been formally designated as a reservation. Consistent with previous federal program approvals or delegations, EPA will continue to implement the NESHAPs in Indian country because LDEQ has not adequately demonstrated its authority over sources and activities located within the exterior boundaries of Indian reservations and other areas in Indian country.

VIII. How Will Applicability Determinations Under Section 112 Be Made?

In approving this delegation, LDEQ will obtain concurrence from EPA on any matter involving the interpretation of section 112 of the CAA or 40 CFR part 63 to the extent that implementation, administration, or enforcement of these sections have not been covered by EPA determinations or guidance.

IX. What Authority Does EPA Have?

We retain the right, as provided by CAA section 112(l)(7), to enforce any applicable emission standard or requirement under Section 112. EPA also has the authority to make certain decisions under the General Provisions (Subpart A) of part 63. We are granting LDEQ some of these authorities, and retaining others, as explained in Sections VI and VII above. In addition, EPA may review and disapprove of State determinations and subsequently require corrections. (See 40 CFR 63.91(g) and 65 FR 55810, 55823, September 14, 2000.)

Furthermore, we retain any authority in an individual emission standard that may not be delegated according to provisions of the standard. Also, listed in the footnotes of the part 63 delegation table at the end of this rule are the authorities that cannot be delegated to any State or local agency which we therefore retain.

X. What Information Must LDEQ Provide to EPA?

In delegating the authority to implement and enforce these rules and in granting a waiver of EPA notification requirements, we require LDEQ to input all source information into the Aerometric Information Retrieval System (AIRS) for both point and area sources, as applicable. LDEQ must enter this information into the AIRS system and update the information by September 30 of every year. LDEQ must provide any additional compliance related information to EPA, Region 6, Office of Enforcement and Compliance Assurance within 45 days of a request under 40 CFR 63.96(a).

In receiving delegation for specific General Provisions authorities, LDEQ must submit to EPA Region 6 on a semi-annual basis, copies of determinations issued under these authorities. For part 63 standards, these determinations include: Applicability determinations (63.1); approval/disapprovals of construction and reconstruction [63.5(e) and (f)]; notifications regarding the use of a continuous opacity monitoring system [63.6(h)(7)(ii)]; finding of compliance [63.6(h)(8)]; approval/disapprovals of compliance extensions [63.6(i)]; approvals/disapprovals of minor [63.7(e)(2)(i)] or intermediate [63.7(e)(2)(ii) and (f)] alternative test methods; approval of shorter sampling times and volumes [63.7(e)(2)(iii)]; waiver of performance testing [63.7(e)(2)(iv) and (h)(2), (3)]; approvals/disapprovals of minor or intermediate alternative monitoring methods [63.8(f)]; approval of adjustments to time periods for submitting reports (63.9 and 63.10); and approvals/disapprovals of minor alternatives to recordkeeping and reporting [63.10(f)].

Additionally, EPA's Emission Measurement Center of the Emissions Monitoring and Analysis Division must receive copies of any approved intermediate changes to test methods or monitoring. (Please note that intermediate changes to test methods must be demonstrated as equivalent through the procedures set out in EPA method 301.) This information on approved intermediate changes to test methods and monitoring will be used to compile a database of decisions that will be accessible to State and local agencies and EPA Regions for reference in making future decisions. (For definitions of major, intermediate and minor alternative test methods or monitoring methods, see 40 CFR 63.90). The LDEQ should forward these intermediate test methods or monitoring changes via mail or facsimile to: Chief, Source Categorization Group A, EPA (MD-19), Research Triangle Park, NC 27711, Facsimile telephone number: (919) 541-1039.

XI. What Is EPA's Oversight of This Delegation to LDEQ?

EPA must oversee LDEQ's decisions to ensure the delegated authorities are being adequately implemented and enforced. We will integrate oversight of the delegated authorities into the existing mechanisms and resources for oversight currently in place. If, during oversight, we determine that LDEQ made decisions that decreased the stringency of the delegated standards, then LDEQ shall be required to take corrective actions and the source(s) affected by the decisions will be notified, as required by 40 CFR 63.91(g)(1)(ii). We will initiate withdrawal of the program or rule if the corrective actions taken are insufficient.

XII. Should Sources Submit Notices to EPA or LDEQ?

All of the information required pursuant to the Federal NESHAP (40 CFR part 63) should be submitted by sources located outside of Indian country, directly to the LDEQ at the following address: Office of Environmental Services, P. O. Box 4313, Baton Rouge, LA 70821-4313. The LDEQ is the primary point of contact with respect to delegated NESHAPs. Sources do not need to send a copy to EPA. EPA Region 6 waives the requirement that notifications and reports for delegated standards be submitted to EPA in addition to LDEQ in accordance with 40 CFR 63.9(a)(4)(ii) and 63.10(a)(4)(ii).

XIII. How Will Unchanged Authorities Be Delegated to LDEQ in the Future?

In the future, LDEQ will only need to send a letter of request to EPA, Region 6, for those NESHAP regulations that LDEQ has adopted by reference. The letter must reference the previous up-front approval demonstration and reaffirm that it still meets the up-front approval criteria. We will respond in writing to the request stating that the request for delegation is either granted or denied. A Federal Register will be published to inform the public and affected sources of the delegation, indicate where source notifications and reports should be sent, and to amend the relevant portions of the Code of Federal Regulations showing which NESHAP standards have been delegated to LDEQ.

XIV. Final Action

The public was provided the opportunity to comment on the proposed approval of the program and mechanism for delegation of Section 112 standards, as they apply to part 70 sources, on August 24, 1994, for the proposed interim approval of LDEQ's Title V operating permits program; and on April 7, 1995, for the proposed final approval of LDEQ's Title V operating permits program. In EPA's final full approval of Louisiana's Operating Permits Program (60 FR 47296), the EPA discussed the public comments on the proposed delegation of the Title V operating permits program. The public was also given the opportunity to comment on the delegation of authority to Louisiana for National Emission Standards for Hazardous Air Pollutants on March 26, 2004 (69 FR 15687 and 69 FR 15755) and on December 15, 2004 (69 FR 74979), and received no public comments on either delegation of authority. In this action, the public is given the opportunity to comment on the approval of LDEQ's request for delegation of authority to implement and enforce certain Section 112 standards for all sources (both part 70 and non-part 70 sources) which have been adopted by reference into Louisiana's state regulations. However, the Agency views the approval of these requests as a non-controversial action and anticipates no adverse comments. Therefore, EPA is publishing this rule without prior proposal. However, in the “Proposed Rules” section of today's Federal Register publication, EPA is publishing a separate document that will serve as the proposal to approve the program and delegation of authority described in this action if adverse comments are received. This action was effective on June 16, 2006, without further notice unless the Agency receives relevant adverse comments by May 17, 2006.

If EPA receives adverse comments, we will publish a timely withdrawal in the Federal Register informing the public the rule will not take effect. We will address all public comments in a subsequent final rule based on the proposed rule. The EPA will not institute a second comment period on this action. Any parties interested in commenting must do so at this time. Please note that if we receive adverse comment on an amendment, paragraph, or section of this rule and if that provision may be severed from the remainder of the rule, we may adopt as final those provisions of the rule that are not the subject of an adverse comment.

XV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by June 16, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 63

Environmental protection, Air pollution control, Hazardous substances, Intergovernmental relations, Reporting and recordkeeping requirements.

Authority: This action is issued under the authority of Section 112 of the Clean Air Act, as amended, 42 U.S.C. 7412.

Dated: April 7, 2006.
Richard E. Greene,
Regional Administrator, Region 6.

40 CFR part 63 is amended as follows:

PART 63—[AMENDED]

1. The authority citation for part 63 continues to read as follows:

Authority: 42 U.S.C. 7401 et seq.

Subpart E—Approval of State Programs and Delegation of Federal Authorities

2. Section 63.99 is amended by revising paragraph (a)(18)(i) to read as follows:

§ 63.99 Delegated Federal Authorities.

(a) * * *

(18) * * *

(i) The following table lists the specific part 63 standards that have been delegated unchanged to the Louisiana Department of Environmental Quality for all sources. The “X” symbol is used to indicate each subpart that has been delegated. The delegations are subject to all of the conditions and limitations set forth in Federal law, regulations, policy, guidance, and determinations. Some authorities cannot be delegated and are retained by EPA. These include certain General Provisions authorities and specific parts of some standards. Any amendments made to these rules after the date of adoption are not delegated.

Delegation Status for Part 63 Standards.—State of Louisiana ¹
Subpart | Source category | LDEQ 2, 3
A | General Provisions | X
F | Hazardous Organic NESHAP (HON)—Synthetic Organic Chemical Manufacturing Industry (SOCMI) | X
G | HON—SOCMI Process Vents, Storage Vessels, Transfer Operations and Wastewater | X
H | HON—Equipment Leaks | X
I | HON—Certain Processes Negotiated Equipment Leak Regulation | X
J | Polyvinyl Chloride and Copolymers Production | X ⁴
K | (Reserved) |
L | Coke Oven Batteries | X
M | Perchloroethylene Dry Cleaning | X
N | Chromium Electroplating and Chromium Anodizing Tanks | X
O | Ethylene Oxide Sterilizers | X
P | (Reserved) |
Q | Industrial Process Cooling Towers | X
R | Gasoline Distribution | X
T | Halogenated Solvent Cleaning | X
U | Group I Polymers and Resins | X
V | (Reserved) |
W | Epoxy Resins Production and Non-Nylon Polyamides Production | X
X | Secondary Lead Smelting | X
Y | Marine Tank Vessel Loading | X
Z | (Reserved) |
AA | Phosphoric Acid Manufacturing Plants | X
BB | Phosphate Fertilizers Production Plants | X
CC | Petroleum Refineries | X
DD | Off-Site Waste and Recovery Operations | X
EE | Magnetic Tape Manufacturing | X
FF | (Reserved) |
GG | Aerospace Manufacturing and Rework Facilities | X
HH | Oil and Natural Gas Production Facilities | X
II | Shipbuilding and Ship Repair Facilities | X
JJ | Wood Furniture Manufacturing Operations | X
KK | Printing and Publishing Industry | X
LL | Primary Aluminum Reduction Plants | X
MM | Chemical Recovery Combustion Sources at Kraft, Soda, Sulfide, and Stand-Alone Semichemical Pulp Mills | X
NN | (Reserved) |
OO | Tanks—Level 1 | X
PP | Containers | X
QQ | Surface Impoundments | X
RR | Individual Drain Systems | X
SS | Closed Vent Systems, Control Devices, Recovery Devices and Routing to a Fuel Gas System or a Process | X
TT | Equipment Leaks—Control Level 1 | X
UU | Equipment Leaks—Control Level 2 Standards | X
VV | Oil-Water Separators and Organic-Water Separators | X
WW | Storage Vessels (Tanks)—Control Level 2 | X
XX | Ethylene Manufacturing Process Units: Heat Exchange Systems and Waste Operations | X
YY | Generic Maximum Achievable Control Technology Standards | X
ZZ-BBB | (Reserved) |
CCC | Steel Pickling—HCl Process Facilities and Hydrochloric Acid Regeneration | X
DDD | Mineral Wool Production | X
EEE | Hazardous Waste Combustors | X
FFF | (Reserved) |
GGG | Pharmaceuticals Production | X
HHH | Natural Gas Transmission and Storage Facilities | X
III | Flexible Polyurethane Foam Production | X
JJJ | Group IV Polymers and Resins | X
KKK | (Reserved) |
LLL | Portland Cement Manufacturing | X
MMM | Pesticide Active Ingredient Production | X
NNN | Wool Fiberglass Manufacturing | X
OOO | Amino/Phenolic Resins | X
PPP | Polyether Polyols Production | X
QQQ | Primary Copper Smelting | X
RRR | Secondary Aluminum Production | X
SSS | (Reserved) |
TTT | Primary Lead Smelting | X
UUU | Petroleum Refineries—Catalytic Cracking Units, Catalytic Reforming Units and Sulfur Recovery Plants | X
VVV | Publicly Owned Treatment Works (POTW) | X
WWW | (Reserved) |
XXX | Ferroalloys Production: Ferromanganese and Silicomanganese | X
AAAA | Municipal Solid Waste Landfills | X
CCCC | Nutritional Yeast Manufacturing | X
EEEE | Organic Liquids Distribution (Non-Gasoline) | X
FFFF | Miscellaneous Organic Chemical Manufacturing | X
GGGG | Solvent Extraction for Vegetable Oil Production | X
HHHH | Wet Formed Fiberglass Mat Production | X
IIII | Auto & Light Duty Trucks | X
JJJJ | Paper and other Web Coating | X
KKKK | Surface Coating of Metal Cans | X
MMMM | Surface Coating of Miscellaneous Metal Parts and Products | X
NNNN | Surface Coating of Large Appliances | X
OOOO | Printing, Coating, and Dyeing of Fabrics and Other Textiles | X
PPPP | Surface Coating of Plastic Parts and Products | X
QQQQ | Surface Coating of Wood Building Products | X
RRRR | Surface Coating of Metal Furniture | X
SSSS | Surface Coating for Metal Coil | X
TTTT | Leather Finishing Operations | X
UUUU | Cellulose Production Manufacture | X
VVVV | Boat Manufacturing | X
WWWW | Reinforced Plastic Composites Production | X
XXXX | Tire Manufacturing | X
YYYY | Stationary Combustion Turbines | X
ZZZZ | Stationary Reciprocating Internal Combustion Engines (RICE) | X
AAAAA | Lime Manufacturing Plants | X
BBBBB | Semiconductor Manufacturing | X
CCCCC | Coke Ovens: Pushing, Quenching and Battery Stacks | X
DDDDD | Industrial, Commercial, and Institutional Boilers and Process Heaters |
EEEEE | Iron and Steel Foundries | X
FFFFF | Integrated Iron and Steel | X
GGGGG | Site Remediation | X
HHHHH | Miscellaneous Coating Manufacturing | X
IIIII | Mercury Cell Chlor-Alkali Plants | X
JJJJJ | Brick and Structural Clay Products Manufacturing | X
KKKKK | Clay Ceramics Manufacturing | X
LLLLL | Asphalt Roofing and Processing | X
MMMMM | Flexible Polyurethane Foam Fabrication Operation | X
NNNNN | Hydrochloric Acid Production, Fumed Silica Production | X
PPPPP | Engine Test Facilities | X
QQQQQ | Friction Products Manufacturing | X
RRRRR | Taconite Ore Processing | X
SSSSS | Refractory Products Manufacturing | X
TTTTT | Primary Magnesium Refining | X
¹ Program delegated to Louisiana Department of Environmental Quality (LDEQ).
² Federal rules adopted unchanged as of July 1, 2004.
³ Authorities which may not be delegated include: 63.6(g), Approval of Alternative Non-Opacity Emission Standards; 63.6(h)(9), Approval of Alternative Opacity Standards; 63.7(e)(2)(ii) and (f), Approval of Major Alternatives to Test Methods; 63.8(f), Approval of Major Alternatives to Monitoring; 6.3.10(f), Approval of Major Alternatives to Recordkeeping and Reporting; and all authorities identified in the subparts (e.g., under “Delegation of Authority”) that cannot be delegated.
⁴ The standard was previously delegated to LDEQ. The standard was vacated and remanded to EPA by the United States Court of Appeals for the District of Columbia Circuit. See, Mossville Environmental Action Network v. EPA, 370 F. 3d 1232 (D.C. Cir. 2004). Because of the D.C. Circuit Court's holding this standard is not delegated to LDEQ at this time.

* * * * *

[FR Doc. 06-3637 Filed 4-14-06; 8:45 am]

BILLING CODE 6560-50-P